DEPARTMENT OF DEFENSE

Department of the Army

Availability for Non-Exclusive or Partially Exclusive Licensing of a U.S. Patent Application

AGENCY: Department of the Army, DoD.

ACTION: Notice.

SUMMARY: Announcement is made of the availability for licensing of the invention set forth in U.S. Patent Application Serial No. 11/727,486, entitled “Artificial Invaplex,” filed March 27, 2007. Foreign rights are also available for licensing (PCT/US2007/007482). The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to an artificial invasin complex hat can facilitate the transport of biomolecules, therapeutics and antibiotics across cell membranes in a manner similar to native Shigella Invaplex.

Brenda S. Bowen,
Army Federal Register Liaison Officer.

[FR Doc. 2010-16897 Filed 7-9-10; 8:45 am]

BILLING CODE 3710-08-P